DEPARTMENT OF THE INTERIOR

Fish and Wildlife Service

[FWS-R1-R-2012-N114; 1265-0000-10137-S3]

Dungeness National Wildlife Refuge, Clallam County, WA; Comprehensive Conservation Plan and Environmental Assessment

AGENCY: Fish and Wildlife Service, Interior.

ACTION: Notice of availability; request for comments.

SUMMARY: We, the U.S. Fish and Wildlife Service (Service), announce the availability of a draft comprehensive conservation plan and environmental assessment (Draft CCP/EA) for Dungeness National Wildlife Refuge (refuge or NWR) for public review and comment. The Draft CCP/EA describes our proposal for managing the refuge for the 15 years following approval of the final CCP. Implementing the CCP is subject to the availability of funding and any other compliance regulations.

DATES: To ensure consideration, please send your written comments by December 28, 2012.

ADDRESSES: You may submit comments or requests for copies or more information by any of the following methods. You may request hard copies or a CD-ROM of the documents.

Email: FW1PlanningComments@fws.gov. Include “Dungeness NWR draft CCP” in the subject line of the message.

Fax: Attn: Project Leader, (360) 457-9778.

U.S. Mail: Washington Maritime National Wildlife Refuge Complex, 715 Holgerson Road, Sequim, WA 98382.

Web site: http://www.fws.gov/pacific/planning/main/docs/wa/docsdungeness.htm.

In-Person Drop-off, Viewing, or Pickup: Call (360) 457-8451 to make an appointment (necessary for viewing/pickup only) during regular business hours at the above address. For more information on locations for viewing or obtaining documents, see “Public Availability of Documents” under SUPPLEMENTARY INFORMATION.

FOR FURTHER INFORMATION CONTACT: Kevin Ryan, Project Leader, Washington Maritime National Wildlife Refuge Complex, 715 Holgerson Road, Sequim, WA 98382; phone (360) 457-8451 and fax (360) 457-9778.

SUPPLEMENTARY INFORMATION:

Introduction

With this notice, we continue the CCP process for Dungeness NWR in Clallam County, Washington. We started this process through a notice in the Federal Register (76 FR 61378; October 4, 2011). For more information about the history of the refuge, see that notice.

Background

The CCP Process

The National Wildlife Refuge System Administration Act of 1966, 16 U.S.C. 668dd-668ee (Refuge Administration Act), as amended by the National Wildlife Refuge System Improvement Act of 1997, 111 Stat. 1254, requires us to develop a CCP for each national wildlife refuge. The purpose for developing a CCP is to provide refuge managers with a 15-year plan for achieving refuge purposes and contributing toward the mission of the National Wildlife Refuge System (NWRS), consistent with sound principles of fish and wildlife management, conservation, legal mandates, the National Environmental Policy Act (NEPA), and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

Public Outreach

We began public outreach by publishing a notice of intent in the Federal Register (76 FR 61378; October 4, 2011) announcing our intent to complete a CCP and EA for the refuge and inviting public comments. In October 2011, we distributed Planning Update 1, which included background information on the refuge; refuge purposes; preliminary issues, vision, and goals; and a request for public comments. Some scoping comments we received were about broad or long-range issues, while others suggested very specific or detailed strategies that could be used to achieve biological or public use objectives. The comments were categorized into eight general categories: Threats to refuge resources; wildlife and habitat management; wildlife-dependent public use; non-wildlife-dependent public use; law enforcement; cultural resources; land acquisition; and refuge administration.

We reviewed and evaluated the potential issues, management concerns, and opportunities that we, our partners, and the public identified during scoping. We used this information to define the major issues to be addressed in the CCP/EA. Preliminary draft alternatives were then developed to address these issues and meet the goals and objectives of the refuge. In January 2012, we distributed Planning Update 2, which included a summary of the scoping comments we received, a summary of our preliminary draft alternatives, notice of public open house meetings, and information on how and where to comment. On January 19 and February 2, 2012, we held a total of four public open house meetings in Sequim, Washington, to meet the public, present our preliminary draft alternatives, and solicit comments. The meetings were announced through local media outlets, on the refuge's Web site, and in Planning Update 2. Comments we received have been considered and evaluated, with many incorporated into the various alternatives addressed in the draft CCP/EA.

Draft CCP/EA Alternatives We Are Considering

During the public scoping process with which we started work on this draft CCP, we, other governmental partners, Tribes, and the public raised several issues, which the draft CCP addresses. A full description of each alternative is in the EA. To address these issues, we developed and evaluated the following alternatives, briefly summarized below.

Common to All Alternatives

The New Dungeness Light Station, within the approved refuge boundary, is due to be excessed by the U.S. Coast Guard (USCG). Under all alternatives, the Service would work with the USCG to bring the light station property into the NWRS either through interagency cooperative management agreement or property transfer. Subsequently, the Service proposes to enter into an agreement with the New Dungeness Light Station Association to continue their management and maintenance of the light station facilities.

Alternative A: No Action

Under Alternative A, the refuge would continue with current management, which focuses on protecting and maintaining habitats in their current condition. Fire suppression techniques would continue to be used to prevent catastrophic wildfire. Wetland and forested habitats would continue to be monitored for invasive species, and treated with Integrated Pest Management techniques as funding allows. The water delivery system on the Dawley Unit would be maintained to deliver water to the impoundment. Access on roads within the Dawley Unit would be maintained. Partnerships would continue to be cultivated for oil spill response and to address water quality issues within Dungeness Bay and Harbor. Limited data would be collected on birds, vegetation, invasive species, and marine debris, with no specific effectiveness monitoring conducted for habitats or wildlife. Research would continue under Special Use Permits. Areas that are open for public use year-round, areas that are open only seasonally depending on the needs of refuge wildlife, and areas that are closed to visitors year-round for the benefit of wildlife would remain the same. Public-use activities on the refuge would include fishing (saltwater), shell-fishing (clams and crabs), wildlife observation, wildlife photography, hiking, boating (no wake allowed), jogging, horseback riding, beach use (wading, beachcombing, other recreational beach uses), environmental education, and environmental interpretation.

Alternative B: Preferred Alternative

The Service's Preferred Alternative would continue many of the activities in Alternative A, but would also expand the level of active habitat management and enhancement that the Service would conduct. A forest assessment would be conducted within the Dawley Unit and a step-down forest management plan would be completed by 2018. Active forest management techniques would be employed within a core 40-acre area to promote the development of old-growth forest. A road inventory and condition assessment for the Dawley Unit would be completed by 2016. The slope along the main road would be stabilized, but the overall amount of road maintained would decrease and unneeded logging spur roads outside of the core area would be rehabilitated. A wetland inventory and hydrological assessment would be conducted by 2015. The impoundment at the Dawley Unit would be managed for optimum water levels and benthic layer characteristics for amphibians. In addition to existing status monitoring and research, data would be collected on a greater variety of flora and fauna. Environmental factors that are stressors, climate-change related or otherwise, would be monitored. Effectiveness monitoring of CCP and other step-down plan objectives would occur. Public-use changes would include new limits on boat landing hours. Additional wildlife viewing, interpretive, and environmental education programs would be offered. Staff and volunteer time devoted to making visitor contacts would be increased. New orientation, guidance, and regulatory signage and materials would be developed. The existing uses of jogging and horseback riding were evaluated and our draft analysis has found that jogging is not appropriate due to wildlife disturbance and therefore would no longer be allowed. We also have preliminarily determined that horseback riding should no longer be allowed due to safety concerns and user conflicts.

Alternative C

All additional habitat monitoring and management activities included in Alternative B are also included in this alternative, as are effectiveness monitoring and research identification, and pursuit of partnerships to accomplish these activities. However, forest management within the Dawley Unit would be further expanded to include minimal management activities (e.g., planting berry-producing shrubs) within an additional 30-40 acres outside of the core area. Unneeded logging spur roads within this area would also be rehabilitated. Public use opportunities and programs under Alternative C are similar to Alternative B but smaller and more restricted in some cases. Limits on boat landing hours under Alternative C are the same as under Alternative B. Wildlife viewing, interpretive, and environmental education programs would be slightly more frequent under Alternative C compared to Alternative A but slightly less frequent compared to Alternative B. Similar to Alternative B, jogging is found to be not appropriate due to wildlife disturbance and therefore would no longer be allowed. Horseback riding would not be allowed due to safety concerns and user conflicts.

Public Availability of Documents

In addition to any methods in ADDRESSES, you can view or obtain documents in the following ways: by calling the refuge complex at 360-457-8451 or visiting our Web site at http://www.fws.gov/pacific/planning/main/docs/wa/docsdungeness.htm. Printed copies will be available for review at the following libraries:

• North Olympic Public Library—Sequim Branch, 630 N. Sequim Ave., Sequim, WA 98382

• North Olympic Public Library—Port Angeles Branch, 2210 South Peabody St., Port Angeles, WA 98362

• Port Townsend Public Library, 1220 Lawrence Street, Port Townsend, WA 98368

• Jefferson County Central Library, 620 Cedar Ave., Port Hadlock, WA 98339

Submitting Comments/Issues for Comment

Public comments are requested, considered, and incorporated throughout the planning process. Public participation is vital to this planning effort. Comments on the draft CCP/EA will be analyzed by the Service and addressed in the final planning documents.

Public Availability of Comments

Before including your address, phone number, email address, or other personal identifying information in your comment, you should be aware that your entire comment—including your personal identifying information—may be made publicly available at any time. While you can ask us in your comment to withhold your personal identifying information from public review, we cannot guarantee that we will be able to do so.

Dated: August 6, 2012.
Robyn Thorson
Regional Director, Pacific Region, U.S. Fish and Wildlife Service.

[FR Doc. 2012-28753 Filed 11-27-12; 8:45 am]

BILLING CODE 4310-55-P